DEPARTMENT OF THE INTERIOR

Bureau of Land Management

[LLCAD07000; L16100000.DU0000; 14XL1109AF]

Notice of Intent To Prepare an Environmental Assessment and an Associated Land Use Plan Amendment To Close the Airport Mesa Target Shooting Area, Imperial, CA

AGENCY: Bureau of Land Management, Interior.

ACTION: Notice of Intent.

SUMMARY: In compliance with the National Environmental Policy Act (NEPA) of 1969, as amended, and the Federal Land Policy and Management Act (FLPMA) of 1976, as amended, the Bureau of Land Management (BLM) El Centro Field Office, California, intends to prepare an Environmental Assessment (EA) to consider amending the Eastern San Diego County (ESDC) Resource Management Plan (RMP) to close the Airport Mesa to recreational target shooting. This notice announces the beginning of the scoping process to solicit public comments and identify issues.

DATES: Comments on issues may be submitted in writing until May 12, 2014. The date(s) and location(s) of any scoping meetings will be announced at least 15 days in advance through local media, newspapers and the BLM Web site at: http://www.blm.gov/ca/st/en/fo/elcentro.html. In order to be included in the analysis, all comments must be received prior to the close of the 30-day scoping period or 30 days after the last public meeting, whichever is later. The BLM will provide additional opportunities for public participation as appropriate.

ADDRESSES: You may submit comments on issues and planning criteria related to the proposed Airport Mesa target shooting closure by any of the following methods:

• Web site: http://www.blm.gov/ca/st/en/fo/elcentro.html.

• Email: ngaddis@blm.gov.

• Fax: 760-337-4490.

• Mail: BLM El Centro Field Office, Attn: Nicollee Gaddis, 1661 S. 4th Street, El Centro, CA 92243.

Documents pertinent to this proposal may be examined at the El Centro Field Office at the above address.

FOR FURTHER INFORMATION CONTACT: Nicollee Gaddis, BLM Planning and Environmental Coordinator; telephone 760-337-4427; address 1661 S. 4th Street, El Centro, CA 92243; or email ngaddis@blm.gov. Contact Ms. Gaddis if you wish to add your name to our mailing list. Persons who use a telecommunications device for the deaf (TDD) may call the Federal Information Relay Service (FIRS) at 1-800-877-8339 to contact Ms. Gaddis during normal business hours. The FIRS is available 24 hours a day, 7 days a week, to leave a message or question for Ms. Gaddis. You will receive a reply during normal business hours.

SUPPLEMENTARY INFORMATION: This publication provides notice that the BLM El Centro Field Office, El Centro, California, intends to prepare an amendment to the 2008 ESDC RMP and an associated EA; announces the beginning of the scoping process; and seeks public input on issues and planning criteria. Airport Mesa is located in Eastern San Diego County, east of the town of Jacumba, south of U.S. Highway 80. The area described as the Airport Mesa/Carrizo Creek shooting area covers approximately 210 acres along the eastern slope of Airport Mesa.

San Bernardino Base and Meridian (SBBM)

Township 18 South, Range 8 East,

Section 3, S½SW¼SE¼ and S½SE¼SE¼ (20 acres, more or less);

Section 10, Lot 9 (17.15 acres); N½NE¼ (80 acres); SE¼NE¼ (40 acres);

Section 11, Lot 12 (13.05 acres); SW¼NW¼ (40 acres).

The Secure Border Initiative (SBI) congressionally authorized and funded the California Border Patrol (U.S. Border Patrol) to increase its presence along the US/Mexico Border to improve our national security. The U.S. Border patrol has indicated that the Airport Mesa area is critical to its efforts to protect this area because the high elevation of the mesa gives agents the ability to monitor the nearby valleys for illegal activities. As part of this effort to increase its effectiveness in this area, the U.S. Border Patrol has constructed pedestrian and vehicle border barriers, as well as roads for access and maintenance. One of these access roads traverses the east slope of Airport Mesa. The U.S. Border Patrol now uses the top of the mesa as a vantage point to monitor this area. The Airport Mesa area has historically been an important recreational shooting area for residents of San Diego and Imperial Counties. The eastern slope of the mesa is easily accessible and provides a safe back-stop for target shooting. The U.S. Border Patrol's new access road crosses this eastern slope and is within the line-of-fire for recreational target shooters. This has created an unsafe situation, subjecting U.S. Border Patrol agents to the dangers of stray bullets or ricochets.

Since construction of the road in October 2009, the U.S. Border Patrol has worked to inform shooters of the dangers associated with shooting in this area and has requested that shooters move elsewhere to shoot. On August 18, 2009, the U.S. Border Patrol issued a letter to the BLM requesting that the BLM formally close Airport Mesa to target shooting in order to protect its agents in the area.

A temporary closure has been in place since October 2009. This proposal for an area closure would initiate a land use plan amendment to the ESDC RMP with an associated EA. The plan amendment would be limited to closure of target shooting only and not consider use restriction of approved hunting or hiking in the area.

The purpose of the public scoping process is to determine relevant issues that will influence the scope of the EA, including alternatives, and guide the process for developing the EA.

You may submit comments on issues and planning criteria in writing to the BLM at any public scoping meeting, or you may submit them to the BLM using one of the methods listed in the ADDRESSES section above. To be most helpful, you should submit comments by the close of the 30-day scoping period.

A preliminary list of the potential planning criteria that will be used to help guide and define the scope of the plan amendment includes:

1. The plan amendment will be completed in compliance with FLPMA, NEPA, and all other relevant Federal laws, executive orders, and BLM policies;

2. Existing valid plan decisions will not be changed and any new plan decisions will not conflict with existing plan decisions; and

3. The plan amendment(s) will recognize valid existing rights.

The BLM will evaluate identified issues to be addressed in the plan amendment and will place them into one of three categories:

1. Issues to be resolved in the plan amendment;

2. Issues to be resolved through policy or administrative action; or

3. Issues beyond the scope of this plan amendment.

The BLM will provide an explanation in the Scoping Report or the EA as to why an issue was placed in category two or three. The public is also encouraged to help identify any management questions and concerns that should be addressed in the plan. The BLM will work collaboratively with interested parties to identify the management decisions that are best suited to local, regional, and national needs and concerns.

The BLM will use the NEPA public participation requirements to assist the agency in satisfying the public involvement requirements under Section 106 of the National Historic Preservation Act (NHPA) (16 U.S.C. 470(f)) pursuant to 36 CFR 800.2(d)(3). The information about historic and cultural resources within the area potentially affected by the proposed action will assist the BLM in identifying and evaluating impacts to such resources in the context of both NEPA and Section 106 of the NHPA.

The BLM will consult with Indian tribes on a government-to-government basis in accordance with Executive Order 13175 and other policies. Tribal concerns, including impacts on Indian trust assets and potential impacts to cultural resources, will be given due consideration. Federal, State, and local agencies, along with tribes and other stakeholders that may be interested in or affected by the proposed action that the BLM is evaluating, are invited to participate in the scoping process and, if eligible, may request or be requested by the BLM to participate in the development of the environmental analysis as a cooperating agency.

Authority: 40 CFR 1501.7 and 43 CFR 1610.2.

Thomas F. Zale,
Field Manager, El Centro Field Office.

[FR Doc. 2014-08213 Filed 4-10-14; 8:45 am]

BILLING CODE 4310-40-P